DEPARTMENT OF COMMERCE

National Oceanic and Atmospheric Administration

50 CFR Part 665

[Docket No. 121107617-3628-03]

RIN 0648-XC351

Western Pacific Fisheries; 2013 Annual Catch Limits and Accountability Measures; Correcting Amendment

AGENCY: National Marine Fisheries Service (NMFS), National Oceanic and Atmospheric Administration (NOAA), Commerce.

ACTION: Final specifications; correcting amendment.

SUMMARY: This document makes a technical correction to the final 2013 annual catch limit specifications for western Pacific fisheries that were published in the Federal Register on March 13, 2013.

DATES: Effective August 7, 2013 and is applicable beginning April 12, 2013.

FOR FURTHER INFORMATION CONTACT: Jarad Makaiau, Sustainable Fisheries, NMFS Pacific Islands Region, 808-944-2108.

SUPPLEMENTARY INFORMATION: At its 155th meeting held from October 29 through November 1, 2012, the Western Pacific Fishery Management Council (Council) recommended annual catch limits for western Pacific fisheries for the 2013 fishing year, including an annual catch limit of 140,000 lb for the Hawaii non-Deep 7 bottomfish.

NMFS published the proposed 2013 specifications and request for public comments in the Federal Register on January 31, 2013 (78 FR 6798). NMFS published the final specifications in the Federal Register on March 13, 2013 (78 FR 15885). Table 4 in each of those documents contained a typographical error. The limit for Hawaii non-Deep 7 bottomfish was inadvertently described as 145,000 lb, rather than the 140,000 lb recommended by the Council. This notice corrects the error.

NMFS assessed the potential environmental impacts of specifying an annual catch limit of 140,000 lb for Hawaii non-Deep 7 bottomfish for the 2013 fishing year. Consistent with National Standard 1 of the Magnuson-Stevens Fishery Conservation and Management Act, NMFS estimated that a catch limit of 140,000 lb—which is approximately 73% of the estimated overfishing limit proxy of 192,000 lb—is associated with a 26 percent chance of overfishing. National Standard 1 provides that the probability that overfishing will occur cannot exceed 50 percent, and should be a lower value. Accordingly, based on the analyses contained in the environmental assessment, NMFS determined that establishing the catch limit at this level would have no significant effect on the quality of the human environment.

NMFS did not receive public comments on the catch limit for non-Deep 7 bottomfish. The corrected catch limit of 140,000 lb is only 3.5% lower than the published limit that contained the error. The non-Deep 7 bottomfish fishery is not subject to in-season closure or other in-season accountability measures upon attainment of the annual catch limit. Accordingly, in the unlikely event that the annual catch limit is reached, the Council and NMFS would address any overage in the subsequent fishing year. For these reasons, NMFS does not anticipate that fishermen will be adversely affected by the correction.

Correction

Accordingly, in the final specifications published on March 13, 2013 (78 FR 15885), on page 15887, in Table 4—Hawaii, the entry for Non-Deep 7 Bottomfish is revised to read 140,000 lb (63,503 kg).

Dated: August 1, 2013.
Alan D. Risenhoover,
Director, Office of Sustainable Fisheries, performing the functions and duties of the Deputy Assistant Administrator for Regulatory Programs, National Marine Fisheries Service.

[FR Doc. 2013-19069 Filed 8-6-13; 8:45 am]

BILLING CODE 3510-22-P